DEPARTMENT OF LABOR

Wage and Hour Division

Agency Information Collection Activities; Comment Request; Information Collections: Employment Information Form

AGENCY: Wage and Hour Division, Department of Labor.

ACTION: Notice.

SUMMARY: The Department of Labor (Department) is soliciting comments concerning a proposed revision of the information collection request (ICR) titled “Employment Information Form.” This comment request is part of continuing Departmental efforts to reduce paperwork and respondent burden in accordance with the Paperwork Reduction Act of 1995 (PRA). This program helps to ensure that requested data can be provided in the desired format, reporting burden (time and financial resources) is minimized, collection instruments are clearly understood, and the impact of collection requirements on respondents can be properly assessed. A copy of the proposed information request can be obtained by contacting the office listed below in the FOR FURTHER INFORMATION CONTACT section of this Notice.

DATES: Written comments must be submitted to the office listed in the ADDRESSES section below on or before August 27, 2024.

ADDRESSES: You may submit comments identified by Control Number 1235-0021, by either one of the following methods: Email: WHDPRAComments@dol.gov; Mail, Hand Delivery, Courier: Division of Regulations, Legislation, and Interpretation, Wage and Hour, U.S. Department of Labor, Room S-3502, 200 Constitution Avenue NW, Washington, DC 20210.

Instructions: Please submit one copy of your comments by only one method. All submissions received must include the agency name and Control Number identified above for this information collection. Commenters are strongly encouraged to transmit their comments electronically via email or to submit them by mail early. Comments, including any personal information provided, become a matter of public record. They will also be summarized and/or included in the request for Office of Management and Budget (OMB) approval of the information collection request.

FOR FURTHER INFORMATION CONTACT: Robert Waterman, Division of Regulations, Legislation, and Interpretation, Wage and Hour Division, U.S. Department of Labor, Room S-3502, 200 Constitution Avenue NW, Washington, DC 20210; telephone: (202) 693-0406 (this is not a toll-free number). Alternative formats are available upon request by calling 1-866-487-9243. If you are deaf, hard of hearing, or have a speech disability, please dial 7-1-1 to access telecommunications relay services.

SUPPLEMENTARY INFORMATION:

I. Background: The Department of Labor's (Department) Wage and Hour Division WHD (WHD) is authorized to administer and enforce a variety of laws that establish the minimum standards for wages and working conditions in the United States. Collectively, these labor standards cover most private, state, and local government employment. These labor laws range from some of the earliest labor protections passed by Congress to some of the most recent. Although they differ in scope, all of the statutes enforced by WHD are intended to protect and to promote the welfare of the nation's workforce; to provide opportunities for advancement; to ensure fair compensation for work performed; and to level the playing field for responsible employers. The Fair Labor Standards Act (FLSA) minimum wage provisions and the government contract prevailing wage laws provide a floor for the payment of fair wages, while the FLSA overtime provisions are intended to broaden work opportunities and promote employment. The Migrant and Seasonal Agricultural Worker Protection Act (MSPA) and the immigration programs establish working conditions intended to protect the wages and the safety and health of vulnerable workers; to ensure that the local labor force is not displaced by lower paid foreign or migrant labor; and ensure employers that obey the law are not disadvantaged. The McNamara-O'Hara Service Contract Act (SCA) requires contractors and subcontractors performing services on prime contracts in excess of $2,500 to pay service employees in various classes no less than the wage rates and fringe benefits found prevailing in the locality, or the rates (including prospective increases) contained in a predecessor contractor's collective bargaining agreement. The Davis-Bacon and Related Acts (DBRA) require payment of prevailing wages on federal funded or assisted construction projects. The Family and Medical Leave Act (FMLA) was enacted to help workers balance family and work responsibilities and help keep middle class families in the middle class by providing job protection, and the child labor provisions of the FLSA ensure the safe employment of young workers; encourage their educational endeavors; and provide a path to future employment. The Department also administers portions of the Consumer Credit Protection Act, various Executive Orders such as E.O. 13658, E.O. 14026, and E.O. 14055.

In FY 2023, WHD concluded 955 investigations that found child labor violations, a 14% increase from the previous year. WHD found nearly 5,800 children employed in violation of the law, an 88% increase since 2019, and assessed more than $8 million in penalties, an 83% increase from the previous year. At the Wage and Hour Division, safeguarding children at work has always been our top priority. Wage and Hour Division investigations found a significant increase in children being employed illegally and in 2023 launched a National Strategic Enforcement Initiative on Child Labor to put additional emphasis on addressing this critical issue. As part of this initiative, the Department has designed a WHD contact form to better respond to potential child labor issues and potential complaints. This revision proposes to implement the contact form to better streamline Department responsiveness to child labor issues. This contact form will replace any existing contact form on the WHD website.

WHD has prepared a new landing page, a general inquiry form as well as a form specific to child labor. The respondent will only submit one response as if they click child labor on the general inquiry form, the child labor form will appear.

Interested parties are encouraged to send comments to the Department at the address shown in the ADDRESSES section within 60 days of publication of this notice in the Federal Register. To help ensure appropriate consideration, comments should reference OMB Control Number 1235-0021.

II. Review Focus: The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions: The Department of Labor seeks an approval for the revision of this information collection to ensure effective administration of the laws administered by the WHD.

Type of Review: Revision.

Agency: Wage and Hour Division.

Title: Employment Information Form.

OMB Control Number: 1235-0021

Agency Numbers: WH-3.

Affected Public: Business or other for-profit, non-profits, individuals.

Total Respondents: 133,803.

Total Annual Responses: 133,803

Estimated Total Burden Hours: 26,802.

Estimated Time per Response: 20 minutes per complaint, 10 minutes per Contact US submission.

Frequency: On occasion.

Dated: June 21, 2024.
Daniel Navarrete,
Acting Director, Division of Regulations, Legislation, and Interpretation.

[FR Doc. 2024-14158 Filed 6-26-24; 8:45 am]

BILLING CODE 4510-27-P